DEPARTMENT OF AGRICULTURE

Natural Resources Conservation Service

Lost River Subwatershed of the Potomac River Watershed, Hardy County, WV

AGENCY: Natural Resources Conservation Service, USDA.

ACTION: Notice of Availability of a Record of Decision.

SUMMARY: Kevin Wickey, responsible Federal official for projects administered under the provisions of the Flood Control Act of 1944, Public Law 78-534, in the State of West Virginia, is hereby providing notification that a Record of Decision to proceed with the installation of the Lost River Site 16 project on Lower Cove Run is available. Single copies of this Record of Decision may be obtained from Kevin Wickey at the address shown below.

FOR FURTHER INFORMATION CONTACT: Kevin Wickey, State Conservationist, Natural Resources Conservation Service, 75 High Street, Room 301, Morgantown, West Virginia 26505, telephone (304) 284-7545.

Dated: July 9, 2007.
Louis E. Aspey,
Assistant State Conservationist—Water Resources.

“(This activity is listed in the Catalog of Federal Domestic Assistance under No. 10-904—Watershed Protection and Flood Prevention—and is subject to the provisions of Executive Order 12372 which requires intergovernmental consultation with State and local officials.)”

[FR Doc. E7-13744 Filed 7-13-07; 8:45 am]

BILLING CODE 3410-16-P